DEPARTMENT OF ENERGY

Federal Energy Regulatory Commission

[Project No. 2630-004 Oregon]

PacifiCorp; Notice of Availability of Draft Environmental Assessment

November 18, 2005.

In accordance with the National Environmental Policy Act of 1969 and the Federal Energy Regulatory Commission's (Commission) regulations, 18 CFR part 380 (Order No. 486, 52 FR 47897), the Office of Energy Projects has reviewed the application for new license for the Prospect Nos. 1, 2, and 4 Hydroelectric Project, located on the Rogue River, Middle Fork Rogue River, and Red Blanket Creek in Jackson County, Oregon, and has prepared a Draft Environmental Assessment (Draft EA) for the project. The Draft EA contains the staff's analysis of the potential environmental impacts of the project and concludes that licensing the project, with appropriate environmental protective measures, would not constitute a major Federal action that would significantly affect the quality of the human environment.

A copy of the Draft EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. You may also register online at http://www.ferc.gov/docs-filing/esubscription.asp to be notified via e-mail of new filings and issuances related to this or other pending projects. For assistance, contact FERC Online Support.

Any comments should be filed within 45 days from the date of this notice and should be addressed to: Magalie R. Salas, Secretary, Federal Energy Regulatory Commission, 888 First Street, NE., Washington, DC 20426. Please affix Project No. 2630-004 to all comments. Comments may be filed electronically via the Internet in lieu of paper. The Commission strongly encourages electronic filings. See 18 CFR 385.2001(a)(1)(iii) and the instructions on the Commission's Web site (http://www.ferc.gov) under the “e-Filing” link.

For further information, contact Nicholas Jayjack at (202) 502-6073.

Magalie R. Salas,
Secretary.

[FR Doc. E5-6500 Filed 11-23-05; 8:45 am]

BILLING CODE 6717-01-P